NUCLEAR REGULATORY COMMISSION

[Docket No. 030-38594; NRC-2013-0250]

CSMI, LLC

AGENCY: Nuclear Regulatory Commission.

ACTION: Director's Decision; issuance.

SUMMARY: The U.S. Nuclear Regulatory Commission (NRC) is giving notice that the Director of the Office of Federal and State Materials and Environmental Management Programs (FSME) has issued a Director's Decision with regard to a petition dated August 10, 2013, filed by George Walther-Meade (the petitioner).

DATES: Effective date: May 27, 2014.

ADDRESSES: Please refer to Docket ID NRC-2013-0250 when contacting the NRC about the availability of information regarding this document. You may access information related to this document, which the NRC possesses and is publicly available, using the following methods:

• Federal Rulemaking Web site: Go to http://www.regulations.gov and search for Docket ID NRC-2013-0250. Address questions about NRC dockets to Carol Gallagher; telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Hector Rodriguez-Luccioni, Office of Federal and State Materials and Environmental Management Programs, U.S. Nuclear Regulatory Commission, Washington, DC 20555-001; telephone: 301-415-6004; email: Hector.Rodriguez-Luccioni@nrc.gov.

SUPPLEMENTARY INFORMATION: Notice is hereby given that the Director, Office of Federal and State Materials and Environmental Management Programs, has issued a Director's Decision with regard to a petition dated August 10, 2013 (ADAMS Accession No. ML13226A020), filed by George Walther-Meade.

The petition requested immediate enforcement action by issuing an order to revoke CSMI's License No. 20-35022-01. The petitioner also requested that a public meeting be held to discuss this matter in the Washington, DC area.

As the basis for this request, the petitioner stated that the Licensee has committed willful violations involving falsification of information that are of particular concern because the NRC's regulatory program is based on licensees acting with integrity and communicating with candor.

The petition of August 10, 2013, raises concerns about potential misrepresentation made by the licensee, which form the basis for the petition, can be summarized as follow:

• In the cover letter to its license application dated December 3, 2012, CSMI stated that they have provided installation, transportation, and maintenance services related to the radiological safety of SAIC Vehicle and Cargo Inspection System (VACIS) for 10 years as a subcontractor. However, according to the petitioner, SAIC, has only been operating the VACIS system for the U.S. Government since 2006 (a period of less than 10 Years).

• Three of the petitioner's concerns involved training that CSMI stated their employees had received form SAIC. CSMI stated that Mr. Roberto Bhaday, their Radiation Safety Officer (RSO), received 40 hours of SAIC Field Service Representative radiation safety training in January 2005 in San Diego, California. Additionally, CSMI stated that their staff attended 80 hours of Initial Field Service Representative technical training in January 2005, at SAIC's facility in Rancho San Bernardo, California. However, the petitioner stated that SAIC did not provided training to Mr. Bhaday or any CSMI staff.

• Two of the petitioner's concerns involved communication with SAIC for maintenance and emergency support. CSMI stated that their service personnel will adhere to the strict guidelines provided by SAIC (e.g., maintenance procedure) and that SAIC will be consulted immediately in the case of an emergency. However, the petitioner stated that the licensee does not have access to current guidelines and procedures nor is there any vehicle to consult SAIC in case of an emergency.

• CSMI stated that radiation safety training is supervised by an RSO-qualified representative of the system manufacturer and that all radiation safety training materials are provided by the system manufacturer. However, the petitioner stated that no such agreement exists, nor is there evidence to support this claim.

• CSMI stated that leak analysis will be the responsibility of the manufacturer. However, the petitioner stated that no such agreement exists, nor is there evidence to support the licensee's claim.

• In telephone conversations with the NRC, CSMI stated that Mr. Michael Hartnett would be named RSO with Mr. Bhaday as back-up and that Mr. Hartnett was scheduled for RSO training in mid-February. However, the petitioner stated that Mr. Bhaday is no longer with CSMI and Mr. Christopher Knox has since been appointed RSO.

• The petitioner stated that Messers. Knox, Hartnett, and Bhaday have not received training by the petitioner as implied in the license application and correspondence.

On September 10, 2013, the petitioner and the licensee met with the staff's petition review board during a public meeting. The meeting gave the petitioner and the licensee an opportunity to provide additional information and to clarify issues raised in the petition. The transcript of this meeting was treated as a supplement to the petition (ADAMS Accession No. ML13263A388).

The NRC sent a copy of the proposed Director's Decision to the petitioner and to CSMI for comment on February 28, 2014. The petitioner responded with comments on April 4, 2014 (ADAMS Accession No. ML14101A127) and CSMI responded with no comments on March 26, 2014. The comments and the NRC staff's response to them are included in the Director's Decision.

The Director of FSME has determined that the request, to revoke CSMI License Number 20-35022-01, be denied. The reasons for this decision are explained in the Director's Decision pursuant to Title 10 of Code of Federal Regulations (10 CFR) 2.206 (DD-14-04, ADAMS Accession No. ML14128A277).

The NRC staff has not substantiated the petitioner's concern that CSMI has committed a willful violation involving falsification of information. Additionally the staff has not identified any safety basis for revoking or suspending CSMI's license.

A copy of the Director's Decision will be filed with the Secretary of the Commission for the Commission's review in accordance with 10 CFR 2.206 of the Commission's regulations. As provided for by this regulation, the Director's Decision will constitute the final action of the Commission 25 days after the date of the Decision, unless the Commission, on its own motion, institutes a review of the Director's Decision in that time.

Dated at Rockville, Maryland, this 27th day of May 2014.
For the Nuclear Regulatory Commission.
Brian E. Holian,
Acting Director, Office of Federal and State Materials and Environmental Management Programs.

[FR Doc. 2014-13360 Filed 6-6-14; 8:45 am]

BILLING CODE 7590-01-P